DEPARTMENT OF DEFENSE

Department of the Army

Interim Change to the Military Freight Traffic Unified Rules Publication (MFTURP) No. 1

AGENCY: Department of the Army, DoD.

SUMMARY: The Military Surface Deployment and Distribution Command (SDDC) is providing notice that it is releasing an interim change to the MFTURP No. 1 on October 1, 2010. The interim change updates Section B, Item 21, Detention: Vehicles With Power Units (DEP).

ADDRESSES: Submit comments to Publication and Rules Manager, Strategic Business Directorate, Business Services, 1 Soldier Way, Building 1900W, ATTN: SDDC-OPM, Scott AFB 62225. Request for additional information may be sent by e-mail to: chad.t.privett@us.army.mil or george.alie@us.army.mil.

FOR FURTHER INFORMATION CONTACT: Mr. Chad Privett, (618) 220-6901, or Mr. George Alie, (618) 220-5870.

SUPPLEMENTARY INFORMATION: Reference: Military Freight Traffic Unified Rules Publications (MFTURP) No. 1.

Background: The MFTURP No. 1 governs the purchase of surface freight transportation in the Continental United States (CONUS) by DoD using Federal Acquisition Regulation (FAR) exempt transportation service contracts.

Section B, Item 21, has been updated in order to clearly define Tank Truck/Bulk Fuel free time and the provisions of free time in general.

Miscellaneous: This publication, as well as the other SDDC publications, can be accessed via the SDDC Web site at: http://www.sddc.army.mil/Public/Global%20Cargo%20Distribution/Domestic/Publications/.

Henry Brooks,
Chief, SDDC, G9, Business Execution.

[FR Doc. 2010-24590 Filed 9-29-10; 8:45 am]

BILLING CODE 3710-08-P